DEPARTMENT OF THE TREASURY

Submission for OMB Review; Comment Request

March 31, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

Dates: Written comments should be received on or before May 7, 2004, to be assured of consideration.

Alcohol and Tobacco Tax and Trade Bureau (TTB)

OMB Number: 1513-0005.

Form Number: TTB F 5130.10.

Recordkeeping Requirement ID Numbers: TTB REC 5130/2.

Type of Review: Extension.

Title: Letterhead Applications and Notices Filed by Brewers.

Description: The Internal Revenue Code requires brewers to file a notice of intent to operate a brewery. TTB Form 5130.10 is similar to a permit and, when approved by TTB, is a brewer's authorization to operate. Letterhead applications and notices are necessary to identify brewery activities so that TTB may insure that proposed operations do not jeopardize Federal revenues.

Respondents: Business of other for-profit.

Estimated Number of Respondents/Recordkeepers: 1,750.

Estimated Burden Hours Per Respondent/Recordkeeper:

TTB F 5310.10: 3 hours,

Notices and Applications: 30 minutes.

Frequency of Response: On occasion.

Estimated Total Reporting/Recordkeeping Burden: 9,625 hours.

OMB Number: 1513-0085.

Recordkeeping Requirement ID Numbers: TTB REC 5130/5.

Type of Review: Extension.

Title: Principal Place of Business on Beer Labels.

Description: TTB regulations permit domestic brewers who operate more than one brewery to show as their address on labels and kegs of beer, their “principal place of business” address. This label option may be used in lieu of showing the actual place of production on the label or of listing all of the brewer's locations on the label.

Respondents: Business of other for-profit.

Estimated Number of Recordkeepers: 1,200.

Estimated Burden Hours Per Recordkeeper: 1 hour.

Frequency of Response: On occasion.

Estimated Total Recordkeeping Burden: 1 hour.

Clearance Officer: William H. Foster, Alcohol and Tobacco Tax and Trade Bureau, Room 200 East, 1310 G Street, NW., Washington, DC 20005, (202) 927-8210.

OMB Reviewer: Joseph F. Lackey, Jr., Office of Management and Budget, Room 10235, New Executive Office Building, Washington, DC 20503, (202) 395-7316.

Lois K. Holland,
Treasury PRA Clearance Officer.

[FR Doc. 04-7849 Filed 4-6-04; 8:45 am]

BILLING CODE 4810-31-P